DEPARTMENT OF ENERGY

Federal Energy Regulatory Commission

[Docket No. EG06-2-000]

Leaning Juniper Wind Power, LLC; Notice of Application for Commission Determination of Exempt Wholesale Generator Status

October 12, 2005.

Take notice that on October 3, 2005, Leaning Juniper Wind Power, LLC (Leaning Juniper) tendered for filing with the Commission an application for determination of exempt wholesale generator status pursuant to part 365 of the Commission's regulations.

Leaning Juniper states that it is an Oregon limited liability company, and that it will be engaged directly and exclusively in the business of owning all or part of one or more eligible facilities, and selling electric energy at wholesale.

Leaning Juniper states that it has served a copy of the filing on the Securities and Exchange Commission, the California Public Utilities Commission, the Oregon Public Utilities Commission, the Washington Utilities and Transportation Commission, the Utah Public Service Commission, the Idaho Public Utilities Commission, and the Wyoming Public Service Commission.

Any person desiring to intervene or to protest this filing must file in accordance with Rules 211 and 214 of the Commission's Rules of Practice and Procedure (18 CFR 385.211, 385.214). Protests will be considered by the Commission in determining the appropriate action to be taken, but will not serve to make protestants parties to the proceeding. Any person wishing to become a party must file a notice of intervention or motion to intervene, as appropriate. Such notices, motions, or protests must be filed on or before the comment date. Anyone filing a motion to intervene or protest must serve a copy of that document on the Applicant and all the parties in this proceeding.

The Commission encourages electronic submission of protests and interventions in lieu of paper using the “eFiling” link at http://www.ferc.gov. Persons unable to file electronically should submit an original and 14 copies of the protest or intervention to the Federal Energy Regulatory Commission, 888 First Street, NE., Washington, DC 20426.

This filing is accessible online at http://www.ferc.gov, using the “eLibrary” link and is available for review in the Commission's Public Reference Room in Washington, D.C. There is an “eSubscription” link on the Web site that enables subscribers to receive e-mail notification when a document is added to a subscribed docket(s). For assistance with any FERC Online service, please e-mail FERCOnlineSupport@ferc.gov, or call (866) 208-3676 (toll free). For TTY, call (202) 502-8659.

Comment Date: 5 p.m. eastern time on October 24, 2005.

Magalie R. Salas,
Secretary.

Docket No. EG06-2-000 -2-

[FR Doc. E5-5760 Filed 10-18-05; 8:45 am]

BILLING CODE 6717-01-P